DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 6996, October 20, 1980, as amended most recently at 70 FR 28540-28541, dated May 18, 2005) is amended to establish the organizational structure within the Information Technology Services Office, Office of the Chief Operating Officer.

Section C-B Organization and Functions, is hereby amended as follows:

Delete in its entirety the title and functional statement for the Information Technology Services Office (CAJ9), Office of the Chief Operating Officer (CAJ) and insert the following:

Information Technology Services Office (CAJD). (1) Develops and coordinates CDC-wide plans, budgets, policies, and procedures for information theology (IT) infrastructure services including: Personal computing hardware and software, network and e-mail directories and associated services, e-mail, customer service support, infrastructure software, IT infrastructure security, networking, server support, videoconferencing, mainframe, remote access, and telecommunications; (2) provides all IT infrastructure services for CDC including consolidated IT infrastructure support contracts; (3) provides consulting services, technical advice, and assistance across CDC in the effective and efficient use of IT infrastructure technologies, assets, and services to carry out mission activities, enhance personal and organizational productivity, and develop information systems; (4) develops CDC's IT infrastructure architecture; (5) maintains state-of-the-art expertise in information science and technology; (6) conducts research and development, evaluation, and testing of new IT infrastructure technologies to support CDC's mission; (7) manages CDC's IT infrastructure capital investments and CDC-wide IT acquisitions of infrastructure technologies; (8) develops and coordinates the implementation of CDC infrastructure security programs; (9) manages and coordinates CDC-wide IT continuity of operations and disaster recovery facilities ensuring integrity, availability, security, and recoverability of critical data and systems; (10) provides IT infrastructure support services by triaging and responding to requests for services, problem reports, and taking necessary actions; (11) coordinates with the CDC Corporate University to identify training and educational programs needed by staff to effectively use IT infrastructure technologies and services; (12) conducts the IT infrastructure program in compliance with applicable federal laws, regulations, and policies.

Office of the Director (CAJD1). (1) Plans, directs, coordinates, and implements activities of the Information Technology Services Office (ITSO); (2) manages and directs CDC-wide plans and budgets for the management of IT infrastructure products and services; (3) develops and recommends policies and procedures relating to improved infrastructure service and management practices throughout CDC and with the CDC IT development community; (4) provides leadership in the implementation of standards, policies and procedures to promote improved infrastructure services and practices throughout CDC; (5) coordinates, manages and administers CDC-wide infrastructure services to include: Personal computing hardware and software, network and e-mail directories and associated services, e-mail, customer service support, infrastructure software, IT infrastructure security, networking, server support, videoconferencing, mainframe, remote access, and telecommunications; (6) maintains state-of-the-art expertise in information science and technology to promote the efficient and effective conduct of the CDC mission; (7) directs the CDC-wide Infrastructure Global Activities Program responsible for providing infrastructure and telecommunications support services to CDC international sites.

Operations Branch (CAJDB). (1) Plans, directs, and evaluates activities of the Operations Branch; (2) plans and coordinates the selection, development, management, promotion, training, and support of the CDC-wide Mainframe Data Center, Mid-Tier Data Center, and the campus-based Designated Server Sites (DSS); (3) provides operational support for users of the Mid-Tier Data Center to include external product/job acceptance and certification; (4) in coordination with the Infrastructure Architect, develops and maintains the physical architecture for the Data Center environments; (5) manages and coordinates CDC-wide date resources ensuring integrity, availability, security and recoverability for all Date Centers; (6) provides hosting facilities for disaster recovery and continuity of operations; (7) provides support for mainframe database tools.

Network Technology Branch (HCAJDC). (1) Plans, directs and evaluates activities of the Network Technology Branch; (2) designs, develops, implements, supports, and manages CDC's centralized networking facilities including voice, data, and video communications; (3) provides data network support services for CDC's local area network (LANs), wide area network (WAN), and metropolitan area network (MAN) including planning, managing, installing, diagnosing problems, maintaining and repairing the network; (4) provides level 3 technical support (to other ITSO technical staff for the most complex issues) for CDC Mid- Tier Data Center and Designated Server Sites (DSS); (5) assists in assuring maximum network reliability, availability, performance, and serviceability through monitoring, testing, and evaluating network architecture, implementation, and transmission characteristics; (6) in coordination with the Infrastructure Architecture, develops and maintains the CDC Network architecture; (7) manages, administers, and coordinates CDC's Active Directory Services (ADS); (8) manages, administers, and coordinates CDC's electronic mail and communication gateways; (9) provides voice communications services, equipment, and support for CDC Atlanta facilities.

Customer Services Branch (HCAJDD). (1) Plans, directs, and evaluates activities of the Customer Services Branch; (2) plans and coordinates the selection, development, management, promotion, training, and support of CDC-wide Service Desk (level 1 user support provided via phone or on line) and the campus-based Customer Services Centers (CSC) providing level 2 personal computing support (onsite user support for more complex issues); (3) provides operational and technical support for the activities of the Remote/Field Staff (Domestic and International) including level 2 helpdesk support, microcomputer operating systems, specialized hardward/software, and other COTS software used at international and domestic field offices; (4) manages and directs CDC-wide IT Meeting Management Technologies activities including voice and web conferencing services, online video libraries, and support and maintenance of Video Teleconferencing (VTC).

Dated: April 28, 2005.
William H. Gimson,
Chief Operating Officer, Centers for Disease Control and Prevention (CDC).

[FR Doc. 05-10395 Filed 5-24-05; 8:45 am]

BILLING CODE 4160-18-M